DEPARTMENT OF AGRICULTURE

Rural Utilities Service

Publication of Depreciation Rates

AGENCY: Rural Utilities Service, USDA.

ACTION: Notice.

SUMMARY: The Rural Utilities Service (RUS) hereby announces the depreciation rates for telecommunications plant for the period ending December 31, 2000.

DATES: These rates are effective for the period beginning January 1, 1999 and ending December 31, 2001.

FOR FURTHER INFORMATION CONTACT: Jonathan P. Claffey, Deputy Assistant Administrator, Telecommunications Program, Rural Utilities Service, 1400 Independence Avenue, SW., Room 4056, STOP 1590, Washington, DC 20250-1590. Telephone: (202) 720-9556.

SUPPLEMENTARY INFORMATION: Section 206(a)(3) of the Rural Electrification Act of 1936 requires RUS to annually determine and publish average depreciation rates used by its borrowers for the purposes of depreciating telecommunications plant. The following chart provides those rates, compiled by RUS, for the reporting period ended December 31, 2000:

Average Depreciation Rates of RUS Borrowers by Equipment Category for Period Ended December 31, 2000
Telecommunications plant category | Depreciation rate (percent)
1. Land and Support Assets
a. Motor vehicles | 15.00
b. Aircraft | 10.00
c. Special purpose vehicles | 12.00
d. Garage and other work equipment | 10.00
e. Buildings | 3.01
f. Furniture and office equipment | 10.00
g. General purpose computers | 18.57
2. Central Office Switching
a. Digital (a) | 8.33
b. Analog & electro-mechanical | 10.00
c. Operator systems | 8.61
d. Radio systems | 9.40
e. Circuit equipment (b) | 10.00
3. Information Origination/Termination
a. Station apparatus | 11.90
b. Customer premises equipment | 10.00
c. Large private branch exchanges | 12.50
d. Public telephone terminal equipment | 11.00
e. Other terminal equipment | 10.00
4. Cable and Wire Facilities
a. Aerial cable-Poles | 6.50
a. Aerial cable-metal | 6.00
b. Aerial cable-fiber | 5.00
c. Underground cable-metal | 4.96
d. Underground cable-fiber | 5.00
e. Buried cable-metal | 5.00
f. Buried cable-fiber | 5.00
g. Conduit systems | 3.00
h. Other | 7.12

Dated: January 8, 2002.
Hilda Gay Legg,
Administrator, Rural Utilities Service.

[FR Doc. 02-878 Filed 1-11-02; 8:45 am]

BILLING CODE 3410-15-P